DEPARTMENT OF COMMERCE

International Trade Administration

[A-821-802]

International Trade Data System Test Concerning the Electronic Submission of Certain Documentation Required for Imports of Uranium From the Russian Federation Using the Document Imaging System

AGENCY: Enforcement and Compliance, International Trade Administration, Department of Commerce.

SUMMARY: The Department of Commerce (Commerce) announces, in coordination with U.S. Customs and Border Protection (CBP), a test of the International Trade Data System (ITDS) involving the electronic submission to CBP of forms and certifications related to importation of uranium products from the Russian Federation (Russia), using the Document Image System (DIS) of the Automated Commercial Environment (ACE). CBP and Commerce have developed this program to test and assess the electronic transmission to CBP of certain import documentation for incoming shipments subject to the applicable provisions of the Agreement Suspending the Antidumping Investigation on Uranium from the Russian Federation (Suspension Agreement).¹ The test will involve forms and certifications required by the Suspension Agreement for shipments of uranium products from Russia that must be filed with CBP at the time of entry when an entry has been filed in ACE. Under this test, such documents must be submitted using DIS. This test applies to all entry types filed in ACE at any port. The electronic submission to CBP of such documentation through DIS is in addition to, and does not replace, the timely filing of the documentation required by the Suspension Agreement with Commerce through Enforcement and Compliance's (E&C) electronic filing system, Antidumping and Countervailing Duty Centralized Electronic Service System (ACCESS), available at access.trade.gov.²

¹ See Agreement Suspending the Antidumping Investigation on Uranium from the Russian Federation, 57 FR 492220, 49235 (October 30, 1992); Amendment to Agreement Suspending the Antidumping Investigation on Uranium from the Russian Federation, 59 FR 15373 (April 1, 1994); Amendments to the Agreement Suspending the Antidumping Investigation on Uranium from the Russian Federation, 61 FR 56665 (November 4, 1996); Amendment to Agreement Suspending the Antidumping Investigation on Uranium from the Russian Federation, 62 FR 37879 (July 15, 1997); and Amendment to the Agreement Suspending the Antidumping Investigation on Uranium From the Russian Federation, 73 FR 7705 (February 11, 2008).

² All submissions to E&C must be filed electronically using ACCESS. See 19 CFR 351.303(b)(2)(i). Documents excepted from the electronic submission requirements must be filed manually (i.e., in paper form) with E&C's APO/Dockets Unit, Room 18022, U.S. Department of Commerce, 14th Street and Constitution Avenue NW., Washington, DC 20230, and stamped with the date and time of receipt by the applicable deadlines. See 19 CFR 351.303(b)(2)(ii).

DATES: The test will commence no earlier than November 20, 2015 and will continue until concluded by publication of a notice in the Federal Register ending the test. Comments on, and applications to participate in, the test will be accepted through the duration of the test.

ADDRESSES: To submit comments concerning this test program, send an email to Josephine Baiamonte (Josephine.Baiamonte@dhs.gov), Director, Business Transformation, ACE Business Office (ABO), Office of International Trade, and cc: Wendy Frankel (Wendy.Frankel@trade.gov), Director, Customs Liaison Unit, Enforcement & Compliance, International Trade Administration, U.S. Department of Commerce. In the subject line of an email, please use, “Comment on E&C DIS Test FRN.” Any party seeking to participate in this test should contact their CBP client representative. Interested parties without an assigned CBP client representative should send an email message to Steven Zaccaro at steven.j.zaccaro@cbp.dhs.gov with the subject heading “E&C DIS Test FRN-Request to Participate.”

FOR FURTHER INFORMATION CONTACT: For technical questions related to ACE, contact your assigned CBP client representative. Interested parties without an assigned CBP client representative should direct their questions to Steven Zaccaro at steven.j.zaccaro@cbp.dhs.gov. For Participating Government Agencies' (PGA) related questions, contact Emi Wallace (CBP) at emi.r.wallace@cbp.dhs.gov, and for E&C related questions contact Sally C. Gannon or Sam Zengotitabengoa, Enforcement and Compliance, International Trade Administration, U.S. Department of Commerce, 14th Street and Constitution Avenue NW., Washington, DC 20230; telephone: (202) 482-0162 or (202) 482-4195, respectively.

SUPPLEMENTAL INFORMATION:

Background

I. International Trade Data System and ACE

This test is in furtherance of the ITDS, which is statutorily authorized by section 405 of the Security and Accountability for Every (SAFE) Port Act of 2006, Public Law 109-347. The purpose of ITDS, as defined by section 4 of the SAFE Port Act of 2006, is to eliminate redundant information filing requirements, efficiently regulate the flow of commerce, and effectively enforce laws and regulations relating to international trade, by establishing a single portal system, operated by CBP, for the collection and distribution of standard electronic import and export data required by all participating Federal agencies. On October 13, 2015, CBP promulgated regulations providing that, as of November 1, 2015, ACE is a CBP authorized Electronic Data Interchange System which may be used for the filing of entries and entry summaries. See Automated Commercial Environment (ACE) Filings for Electronic Entry/Entry Summary (Cargo Release and Related Entry), 80 FR 61278 (October 13, 2015).

II. Document Imaging System

DIS allows importers who file entries in ACE to file documentation electronically through DIS and into ACE to meet CBP and PGA) reporting requirements. This documentation must be submitted at any time prior to the arrival of the merchandise on the conveyance transporting the cargo to the United States. The documentation will be validated and made available to the relevant PGAs involved in import, export, and transportation-related decision making, as appropriate. The documentation filed using DIS will be used to fulfill merchandise entry and entry summary filing requirements, eliminate the need to file that documentation in paper format, and allow for earlier release decisions and more certainty for the importer in determining the logistics of cargo delivery. Also, by virtue of being electronic, DIS will eliminate the necessity for the submission and subsequent manual processing by CBP of paper documents because the forms and certifications filed using DIS do not have to be filed in paper format. All DIS participants are required to use a software program that has completed ACE certification testing for DIS. For information, terms and conditions, procedures and rules, and requirements regarding the use of DIS please see Modification of the National Customs Automation Program (NCAP) Test Concerning the Automated Commercial Environment (ACE) Document Image System (DIS) Regarding Future Updates and New Method of Submission of Accepted Documents, 80 FR 62082 (October 15, 2015). For a list of PGA forms and documents which may be transmitted to ACE using DIS, please see http://www.cbp.gov/trade/ace/features.

III. Test Rules, Terms and Conditions

For approved participants, this test applies to all modes of transportation for uranium products from Russia subject to the Suspension Agreement. This test applies only to entries filed in ACE. Entries under this test may be filed at any port. Under the test, importers will be required to electronically transmit certain information, including scanned documents, which must be filed with CBP at the time of entry, pursuant to the Suspension Agreement. Imaged documentation sent in by DIS must be an accurate, complete, unaltered, unmodified and faithful copy of the original. Both the original document and the imaged document must be retained by the filer and importer for five years from the date of submission and both are subject to CBP's laws and regulations concerning recordkeeping.³ Examples of the types of scanned images that will be submitted to the DIS under this test are: Antidumping/Countervailing Duty (AD/CVD) Foreign Government Export License: Uranium products from Russia; AD/CVD Foreign Government Export Certificate: Uranium products from Russia; AD/CVD Declaration of Intent to Re-Export: Uranium products from Russia; AD/CVD Processor Certification: Uranium Products from Russia; AD/CVD End-User Certification: Uranium products from Russia; AD/CVD Purchase and/or Delivery Order: Uranium products from Russia; AD/CVD Origin Certification: Uranium products from any country including Russia; and AD/CVD Anticircumvention Certification: Uranium products from any country including Russia. All documentation required for entries of Russian uranium products must still be timely filed with Commerce, in accordance with the Suspension Agreement's requirements, through ACCESS, E&C's electronic filing system.

³ 19 U.S.C. 1508-1509; 19 CFR part 163.

IV. Test Participation Criteria and Participation Procedure

Any party seeking to participate in this test must provide CBP, in their request to participate, their filer code and the port(s) at which they are interested in filing the appropriate DIS information. Requests to participate in this test will be accepted throughout the duration of the test. To be eligible to apply for this test, the applicant must be a self-filing importer or broker who has the ability to file entries in ACE. All test participants are required to use a software program that has completed ACE certification testing for DIS. Applicants will be notified of their acceptance into the test and of the date they may begin participation.

V. Anticipated Process Changes

For participants accepted into the test, the current paper process for the submission to CBP of documentation for shipments of Russian uranium products subject to the Suspension Agreement will be replaced by the submittal of scanned document images through DIS. Entry data submissions will be subject to validation edits and any applicable PGA business rules programmed into ACE. Once entry data has cleared the initial stage of validation edits and PGA business rules, the filer will receive messages as to the status of the shipment from the time of entry data submission until the time of release. Once all of the PGAs have concluded their review of the shipment and have unset any remaining holds, CBP will send a “One U.S.G.” release message to the filer to indicate that the filer has fulfilled all U.S. Government filing requirements at the port of entry for the shipment. Filers should note, however, that the filing of documentation with CBP through DIS does not replace the separate filing requirements with Commerce pursuant to the Suspension Agreement's requirements, as noted above.

VI. Confidentiality

All data submitted and entered into ACE is subject to the Trade Secrets Act (18 U.S.C. 1905) and is considered confidential, except to the extent as otherwise provided by law. Participation in ACE tests is not confidential, and a name(s) of an approved participant(s) may be disclosed by CBP.

Dated: November 12, 2015.
Paul Piquado,
Assistant Secretary for Enforcement and Compliance.

[FR Doc. 2015-29722 Filed 11-19-15; 8:45 am]

BILLING CODE 3510-DS-P